DEPARTMENT OF HEALTH AND HUMAN SERVICES

Administration for Children and Families

Proposed Information Collection Activity; Data Collection for the NextGen Project's Well-Being Storytelling Exhibit (New Collection)

AGENCY: Office of Planning, Research, and Evaluation, Administration for Children and Families, U.S. Department of Health and Human Services.

ACTION: Request for public comments.

SUMMARY: The Office of Planning, Research, and Evaluation (OPRE) in the Administration for Children and Families (ACF) is conducting additional data collection activities for the Next Generation of Enhanced Employment Strategies Project (NextGen Project) that provides an in-depth look at participant experiences. This effort includes photo elicitation methods and will be referred to as the Well-Being Storytelling Exhibit. The study team will use photo elicitation and human-centered design methods to explore how NextGen participants, staff, and community members conceptualize well-being. This data will help the study team explore the factors that may enhance or explain impact study findings.

DATES: Comments due February 24, 2025. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: OPRE is conducting the NextGen Project to build the evidence on effective strategies for helping people with low incomes find and sustain employment. The project is identifying and testing innovative employment programs designed to help people facing complex challenges secure economic independence. The project is partnering with the Social Security Administration to incorporate a focus on employment-related early interventions for people with current or foreseeable disabilities who have limited work history and are potential applicants for Supplemental Security Income. Primary data collection for the project is approved under Office of Management and Budget #0970-0545.

The study team is continuing primary data collection activities; while this request builds on those efforts, it is specific to new data collection activities that will create a Well-Being Storytelling Exhibit. First, the study team will use photo elicitation methods with NextGen participants and staff. Respondents will submit photos that show how they conceptualize well-being across several aspects of their lives, including economic security, physical and mental health, relationships, and safety. Then, the study team will use the photos as the basis for an interview with respondents. During the analysis phase, the study team will code photos and interviews using a codebook based on the NextGen programs' logic models, to make it easy to identify where participant- and staff-defined well-being overlaps (or does not) with the program's intended outcomes. After photo elicitation data collection is complete, the study team will create an exhibit that displays photos, quotes, and findings from the photo elicitation data collection, alongside related findings from the NextGen descriptive studies. The exhibit will provide illustrative examples of how well-being has been influenced by program participation according to NextGen participants and staff. The exhibit will also include human-centered design activities that engage members of NextGen communities (where programs being evaluated for the NextGen Project were implemented) and researchers in descriptive study and photo elicitation findings by collecting data on their reflections on the exhibit. The Well-Being Storytelling Exhibit is also intended to improve understanding and future dissemination of study findings, and to pilot the method and product of a storytelling exhibit as a culturally responsive evaluation strategy. The data collection instruments for this project include photo elicitation submission forms for participants and staff, photo elicitation interview guides for participants and staff, and human-centered design activities at the photo exhibits.

Respondents: Program participants and frontline staff enrolled in the NextGen Project; NextGen community members including community partners, employers, policymakers, funders, and NextGen participants and staff; and human services researchers and practitioners. All NextGen participants will be able to opt out of the data collection activities.

Annual Burden Estimates
Instrument | Number of respondents (total over request period) | Number of responses per respondent (total over request period) | Avg. burden per response (in hours) | Total/annual burden (in hours)
Photo elicitation submission form—Participants | 40 | 1 | 0.50 | 20
Photo elicitation submission form—Staff | 40 | 1 | 0.50 | 20
Photo elicitation interview discussion guide—Participants | 40 | 1 | 1.00 | 40
Photo elicitation interview discussion guide—Staff | 40 | 1 | 1.00 | 40
Human-centered design activities at the exhibit | 60 | 1 | 0.25 | 15
Estimated total annual burden hours: |  |  |  | 135

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 413 of the Social Security Act, as amended by the FY 2017 Consolidated Appropriations Act, 2017 (Pub. L. 115-31).

Mary C. Jones,
ACF/OPRE Certifying Officer.

[FR Doc. 2024-30709 Filed 12-23-24; 8:45 am]

BILLING CODE 4184-09-P